FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Application Form for Membership on the Community Advisory Council (FR 1401; OMB 7100-0371).

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

Office of Management and Budget (OMB) Desk Officer—Shagufta Ahmed—Office of Information and Regulatory Affairs, Office of Management and Budget, New Executive Office Building, Room 10235, 725 17th Street NW, Washington, DC 20503 or by fax to (202) 395-6974.

SUPPLEMENTARY INFORMATION: On June 15, 1984, OMB delegated to the Board authority under the Paperwork Reduction Act (PRA) to approve and assign OMB control numbers to collection of information requests and requirements conducted or sponsored by the Board. Board-approved collections of information are incorporated into the official OMB inventory of currently approved collections of information. Copies of the PRA Submission, supporting statements and approved collection of information instrument(s) are placed into OMB's public docket files. The Board may not conduct or sponsor, and the respondent is not required to respond to, an information collection that has been extended, revised, or implemented on or after October 1, 1995, unless it displays a currently valid OMB control number.

Final approval under OMB delegated authority of the extension for three years, without revision, of the following information collection:

Report title: Application Form for Membership on the Community Advisory Council.

Agency form number: FR 1401.

OMB control number: 7100-0371.

Frequency: Annually.

Respondents: Applicants who seek to be considered for Community Advisory Council membership.

Estimated number of respondents: 314.

Estimated average hours per response: 1.

Estimated annual burden hours: 314.

General description of report: The Application Form for Membership on the Community Advisory Council (Application) is used to obtain information about the experience and qualifications of persons seeking to be considered for membership on the Board's Community Advisory Council (CAC).

Legal authorization and confidentiality: The Application is authorized pursuant to the Board's general authority to establish the CAC, which is derived from sections 2A and 10 of the Federal Reserve Act (FRA). Section 2A of the FRA requires the Board and the Federal Open Market Committee to maintain long run growth of the monetary and credit aggregates commensurate with the economy's long-run potential to increase production, so as to promote effectively the goals of maximum employment, stable prices, and moderate long-term interest rates (12 U.S.C. 225a). Section 10 of the FRA authorizes the Board to “determine and prescribe the manner in which its obligations shall be incurred and its disbursements and expenses allowed and paid” (12 U.S.C. 244). The obligation to respond is required to obtain the benefit of consideration for CAC membership.

Information provided on the Application will be kept confidential under exemption 6 of the Freedom of Information Act (FOIA) to the extent that the disclosure of information “would constitute a clearly unwarranted invasion of personal privacy” (5 U.S.C. 552(b)(6)). For example, the release of information such as an applicant's address, home telephone number, and personal email address would likely constitute a clearly unwarranted invasion of personal privacy, and therefore, be kept confidential under exemption 6 of the FOIA. However, the release of information such as the educational and professional qualifications of successful applicants would not likely constitute a clearly unwarranted invasion of personal privacy, and may be disclosed under the FOIA. In addition, once a person becomes a member of the CAC, their name, and the name and location of the organization where they are employed, would generally be listed on the Board's public website.

Current actions: On January 31, 2019, the Board published a notice in the Federal Register (84 FR 718) requesting public comment for 60 days on the extension, without revision, of the Application. The comment period for this notice expired on April 1, 2019. The Board did not receive any comments.

Board of Governors of the Federal Reserve System, May 16, 2019.
Michele Taylor Fennell,
Assistant Secretary of the Board.

[FR Doc. 2019-10662 Filed 5-21-19; 8:45 am]

BILLING CODE 6210-01-P